DEPARTMENT OF HOMELAND SECURITY

Coast Guard

33 CFR Part 165

[Docket No. USCG-2019-0321]

Multiple Safety Zones; Fireworks Displays in the Captain of the Port New York Zone

AGENCY: Coast Guard, DHS.

ACTION: Notice of enforcement of regulation.

SUMMARY: The Coast Guard will enforce a safety zone within the Captain of the Port New York Zone on the specified dates and times. This action is necessary to ensure the safety of vessels, spectators and participants from hazards associated with fireworks displays. During the enforcement periods, no person or vessel may enter the safety zone without permission of the Captain of the Port (COTP).

DATES: The regulation for the safety zone described in 33 CFR 165.160 will be enforced on the date and times listed in the table below.

FOR FURTHER INFORMATION CONTACT: If you have questions on this notice of enforcement, call or email Petty Officer First Class Ronald Sampert U.S. Coast Guard; telephone 718-354-4197, email ronald.j.sampert@uscg.mil.

SUPPLEMENTARY INFORMATION: The Coast Guard will enforce the safety zones listed in 33 CFR 165.160 on the specified date and time as indicated in Table 1 below. This regulation was published in the Federal Register on November 9, 2011 (76 FR 69614).

Table 1
1. City of Poughkeepsie Independence Day, Poughkeepsie, NY, Hudson River Safety Zone, 33 CFR 165.160(5.13) | • Launch site: A barge located in approximate position 41°42′24.50″ N, 073°56′44.16″ W (NAD 1983), approximately 420 yards north of the Mid Hudson Bridge. This Safety Zone is a 300-yard radius from the barge.
| • Date: July 4, 2019.
| • Time: 9:00 p.m.-10:00 p.m.
2. Breezy Point Co-Op Inc., Rockaway Inlet Safety Zone, 33 CFR 165.160(2.9) | • Launch site: A barge located in approximate position 40°34′19.1″ N, 073°54′43.5″ W (NAD 1983). 1200 yards south of Point Breeze. This Safety Zone is a 360-yard radius from the barge.
| • Date: July 5, 2019.
| • Rain Date: July 6, 2019.
| • Time: 9:00 p.m.-10:00 p.m.
3. Peekskill Celebration, Peekskill Bay, Hudson River Safety Zone, 33 CFR 165.160(5.10) | • Launch site: A barge located in approximate position 41°17′16″ N, 073°56′18″ W (NAD 1983), approximately 670 yards north of Travis Point. This Safety Zone is a 360-yard radius from the barge.
| • Date: August 3, 2019.
| • Time: 9:30 p.m.-10:30 p.m.

Under the provisions of 33 CFR 165.160, vessels may not enter the safety zones unless given permission from the COTP or a designated representative. Spectator vessels may transit outside the safety zones but may not anchor, block, loiter in, or impede the transit of other vessels. The Coast Guard may be assisted by other Federal, State, or local law enforcement agencies in enforcing this regulation.

This notice of enforcement is issued under authority of 33 CFR 165.160(a) and 5 U.S.C. 552(a). In addition to this notice of enforcement in the Federal Register, the Coast Guard will provide mariners with advanced notification of enforcement periods via the Local Notice to Mariners and marine information broadcasts.

If the COTP determines that a safety zone need not be enforced for the full duration stated in this notice of enforcement, a Broadcast Notice to Mariners may be used to grant general permission to enter the safety zone.

Dated: May 15, 2019.
J.P. Tama,
Captain, U.S. Coast Guard, Captain of the Port New York.

[FR Doc. 2019-12729 Filed 6-14-19; 8:45 am]

BILLING CODE 9110-04-P